DEPARTMENT OF JUSTICE

Notice of Lodging of Proposed Consent Decree Under the Comprehensive Environmental Response, Compensation, and Liability Act

On November 1, 2018, the Department of Justice lodged a proposed Consent Decree with the United States District Court for the Southern District of Ohio in the lawsuit entitled United States v. The Atlas-Lederer Company, et al., Civil Action No. 3:91-CV-00309.

The United States filed this lawsuit under the Comprehensive Environmental Response, Compensation, and Liability Act (CERCLA). The complaint seeks recovery of costs incurred or to be incurred in connection with the release or threatened release of hazardous substances at the United Scrap Lead Superfund Site in Concord Township, Miami County, Ohio. Three defendants are parties to the proposed Consent Decree: Caldwell Iron & Metal, Larry Katz, and Edison Automotive Inc. Caldwell Iron & Metal and Larry Katz collectively agree to pay $82,492 plus interest over three years. Edison Automotive Inc. agrees to pay $22,334. In return, the United States agrees not to sue the defendants under sections 106 and 107 of CERCLA.

The publication of this notice opens a period for public comment on the proposed Consent Decree. Comments should be addressed to the Assistant Attorney General, Environment and Natural Resources Division, and should refer to United States v. The Atlas-Lederer Company, et al. D.J. Ref. No. 90-11-3-279B. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ-ENRD, P.O. Box 7611, Washington, DC 20044-7611.

Please enclose a check or money order for $5.00 (25 cents per page reproduction cost) payable to the United States Treasury.

Randall M. Stone,
Acting Assistant Section Chief, Environmental Enforcement Section, Environment and Natural Resources Division.

[FR Doc. 2018-24296 Filed 11-6-18; 8:45 am]

BILLING CODE 4410-15-P